DEPARTMENT OF AGRICULTURE

Commodity Credit Corporation

Information Collection; Standard Operating Agreement Governing Intermodal Transportation

AGENCY: Commodity Credit Corporation, USDA.

ACTION: Notice; request for comments.

SUMMARY: In accordance with the Paperwork Reduction Act of 1995, the Commodity Credit Corporation (CCC) is seeking comments from all interested individuals and organizations on the extension with revision of an approved information collection associated with the intermodal transportation services. The information collection supports the domestic and export food assistance program needs. Also, this information collection allows CCC to determine the availability of intermodal marketing companies to meet the intermodal transportation needs of CCC for the movement of its freight.

DATES: Comments on this notice must be received on or before July 5, 2005, to be assured consideration. Comments received after that date will be considered to the extent practicable.

ADDRESSES: Comments must be addressed to Penny Carlson, Acting Chief, Planning and Analysis Division, Kansas City Commodity Office, 6501 Beacon Drive, Kansas City, Missouri 64133-4676. Comments may be also submitted either by e-mail to: pkcarlson@kcc.usda.gov or by fax to: (816) 926-1648. The comments must also be sent to the Desk Officer for Agriculture, Office of Regulatory Affairs, Office of Management and Budget, Washington, DC 20503. Comments must include the OMB number and the title of the information collection.

FOR FURTHER INFORMATION CONTACT: Penny Carlson, Acting Chief, Planning Analysis Division, (816) 926-6509 and pkcarlson@kcc.usda.gov.

SUPPLEMENTARY INFORMATION:

Description of Information Collection

Title: Standard Operating Agreement Governing Intermodal Transportation.

OMB Control Number: 0560-0194.

Expiration Date: October 31, 2005.

Type of Request: Extension with revision.

Abstract: CCC, through the Kansas City Commodity Office (KCCO), solicits bids from transportation companies for the purpose of providing intermodal transportation of agricultural commodities. Intermodal Marketing Companies (IMC) provide rail trailer-on-flatcar/container-on-flatcar (TOFC/COFC) service that CCC hires to provide program transportation needs. Those IMC's, who choose to do business with the KCCO Export Operations Division (EOD) are required to complete and submit the KC-9 (Standard Operating Agreement Governing Intermodal Transportation) at one time only. EOD uses the completed form to determine if IMC is available and meets CCC requirements for hauling agricultural products for CCC.

Estimate of Burden: Average 1 hour per response.

Respondents: Intermodal Marketing Companies.

Respondents: 22.

Estimated Number of Annual Responses per Respondent: 1.

Estimated Total Annual Burden on Respondents: 22 hours.

Comment is invited regarding: (1) Whether the collection of information is necessary for the proper performance of the functions of the agency, including whether the information will have practical utility; (2) the accuracy of the agency's estimate of burden including the validity of the methodology and assumptions used; (3) ways to enhance the quality, utility and clarity of the information collected; or (4) ways to minimize the burden of the collection of the information on those who are to respond, including through the use of appropriate automated, electronic, mechanical, or other technological collection techniques or other forms of information technology.

All comments received in response to this notice, including names and addresses when provided, will be a matter of public record. Comments will be summarized and included in the submission for OMB approval.

Signed at Washington, DC, on April 29, 2005.
James R. Little,
Executive Vice President, Commodity Credit Corporation.

[FR Doc. 05-9030 Filed 5-5-05; 8:45 am]

BILLING CODE 3410-05-P